DEPARTMENT OF HEALTH AND HUMAN SERVICES

Substance Abuse and Mental Health Services Administration (SAMHSA)

Correction of Meeting Notice

Public notice was given in the Federal Register on October 21, 2002, Volume 67, Number 203, page 64655-64656, that the Substance Abuse and Mental Health Services Administration (SAMHSA) Special Emphasis Panels I meetings, Recovery Community Services Program and Strengthening Communities/Youth on November 18th-22nd, 2002, would be closed from 11 a.m. November 20th to Adjournment. The notice should have read these meetings will be closed in their entirety from 8:30 a.m. on November 18th, 2002, to Adjournment on November 22nd, 2002. Notice was given that SAMHSA Special Emphasis Panels I, Center for Mental Health Services Jail Diversion meetings on December 2nd-6th, 2002, would be closed from 11 a.m. December 4th to Adjournment. The closed session is now from 8:30 a.m. on December 2nd to Adjournment on December 6th, 2002.

Notice was given that SAMHSA Special Emphasis Panels I, Center for Substance Abuse Treatment, American Indian/Alaskan Native and Rural Community Planning Program meeting on December 9th-13th, 2002, would be closed from 11 a.m. December 11th to adjournment. The closed session is now from 8:30 a.m. on December 9th to Adjournment on December 13th, 2002.

Coral Sweeney,
Review Specialist, Substance Abuse and Mental Health Services Administration.

[FR Doc. 02-29809 Filed 11-22-02; 8:45 am]

BILLING CODE 4162-20-P